DEPARTMENT OF HOMELAND SECURITY

Coast Guard

[USCG-2005-21004]

Collection of Information Under Review by Office of Management and Budget (OMB): 1625-0060, 1625-0081, and 1625-0083

AGENCY: Coast Guard, DHS.

ACTION: Request for comments.

SUMMARY: In compliance with the Paperwork Reduction Act of 1995, this request for comments announces that the Coast Guard has forwarded three Information Collection Requests (ICRs)—(1) 1625-0060, Vapor Control Systems for Facilities and Tank Vessels; (2) 1625-0081, Alternate Compliance Program; and (3) 1625-0083, Operational Measures for Existing Tank Vessels Without Double Hulls—abstracted below, to the Office of Information and Regulatory Affairs (OIRA) of the Office of Management and Budget (OMB) for review and comment. Our ICR describes the information we seek to collect from the public. Review and comment by OIRA ensures that we impose only paperwork burdens commensurate with our performance of duties.

DATES: Please submit comments on or before August 8, 2005.

ADDRESSES: To make sure that your comments and related material do not reach the docket (USCG-2005-21004) or OIRA more than once, please submit them by only one of the following means:

(1)(a) By mail to the Docket Management Facility, U.S. Department of Transportation (DOT), room PL-401, 400 Seventh Street, SW., Washington, DC 20590-0001. (b) By mail to OIRA, 725 17th St., NW., Washington, DC 20503, to the attention of the Desk Officer for the Coast Guard.

(2)(a) By delivery to room PL-401 at the address given in paragraph (1)(a) above, between 9 a.m. and 5 p.m., Monday through Friday, except Federal holidays. The telephone number is (202) 366-9329. (b) By delivery to OIRA, at the address given in paragraph (1)(b) above, to the attention of the Desk Officer for the Coast Guard.

(3) By fax to (a) the Facility at (202) 493-2298 and (b) OIRA at (202) 395-6566, or e-mail to OIRA at oira-docket@omb.eop.gov attention: Desk Officer for the Coast Guard.

(4)(a) Electronically through the Web site for the Docket Management System at http://dms.dot.gov. (b) OIRA does not have a Web site on which you can post your comments.

The Docket Management Facility maintains the public docket for this notice. Comments and material received from the public, as well as documents mentioned in this notice as being available in the docket, will become part of this docket and will be available for inspection or copying at room PL-401 on the Plaza level of the Nassif Building, 400 Seventh Street, SW., Washington, DC, between 9 a.m. and 5 p.m., Monday through Friday, except Federal holidays. You may also find this docket on the Internet at http://dms.dot.gov.

Copies of the complete ICRs are available through this docket on the Internet at http://dms.dot.gov, and also from Commandant (CG-611), U.S. Coast Guard Headquarters, room 6106 (Attn: Ms. Barbara Davis), 2100 Second Street SW., Washington, DC 20593-0001. The telephone number is (202) 267-2326.

FOR FURTHER INFORMATION CONTACT: Ms. Barbara Davis, Office of Information Management, telephone (202) 267-2326 or fax (202) 267-4814, for questions on these documents; or Ms. Andrea M. Jenkins, Program Manager, Docket Operations, (202) 366-0271, for questions on the docket.

SUPPLEMENTARY INFORMATION: The Coast Guard invites comments on the proposed collections of information to determine whether the collections are necessary for the proper performance of the functions of the Department. In particular, the Coast Guard would appreciate comments addressing: (1) The practical utility of the collections; (2) the accuracy of the estimated burden of the collections; (3) ways to enhance the quality, utility, and clarity of the information that is the subject of the collections; and (4) ways to minimize the burden of collections on respondents, including the use of automated collection techniques or other forms of information technology.

Comments to DMS or OIRA must contain the OMB Control Number of the Information Collection Reports (ICRs) addressed. Comments to DMS must contain the docket number of this request, (USCG 2005-21004). For your comments to OIRA to be considered, it is best if OIRA receives them on or before August 8, 2005.

Public participation and request for comments: We encourage you to respond to this request for comments by submitting comments and related materials. We will post all comments received, without change, to http://dms.dot.gov, and they will include any personal information you have provided. We have an agreement with DOT to use their Docket Management Facility. Please see the paragraph on DOT's “Privacy Act Policy” below.

Submitting comments: If you submit a comment, please include your name and address, identify the docket number for this request for comment (USCG-2005-21004), indicate the specific section of this document or the ICR to which each comment applies, and give the reason for each comment. You may submit your comments and material by electronic means, mail, fax, or delivery to the Docket Management Facility at the address under ADDRESSES, but please submit them by only one means. If you submit them by mail or delivery, submit them in an unbound format, no larger than 8½ by 11 inches, suitable for copying and electronic filing. If you submit them by mail and would like to know that they reached the Facility, please enclose a stamped, self-addressed postcard or envelope.

The Coast Guard and OIRA will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Previous Request for Comments

This request provides a 30-day comment period required by OIRA. The Coast Guard has already published the 60-day notice required by 44 U.S.C. 3506(c)(2) (70 FR 21805, April 27, 2005). That notice elicited two comments. The first comment relates to information collection 1625-0083. The commenter states that the Coast Guard should not allow vessels carrying toxics, including oil, into the U.S. unless they have double hulls and suggests that we discontinue the information collection. In general, the comment is beyond the scope of this information collection. Summarily, information collection 1625-0083 requires the master, owner, or operator of a tank vessel to record and document information that is necessary for the safe operation of the vessel and to manage operational procedures, records, and licenses. The recordkeeping requirements in this collection ensure that pilots are adequately informed of the vessel's status, maneuvering capabilities, and under-keel clearance before beginning a transit. This collection aids the Coast Guard by allowing inspectors to determine if a vessel is in compliance with the requirements contained in 33 CFR part 157. The supporting statement in the docket contains details of this collection. Collection of Information (COI) 1625-0083 is one of many collections related to environmental protection and maritime security. The second comment relates to 1625-0060, Vapor Control Systems for Facilities and Tank Vessels. The commenter raises two points:

• Alternative methods of inspection should be allowed, and;

• Our estimated hour burden is too low—commenter used an example of it taking 800 to 1200 man-hours per year for one large facility to comply with 33 CFR 156.170(g)(3) requirements.

In response to the first point, the Coast Guard notes that 33 CFR part 156 already has a provision for the Captain of the Port (COTP) to consider and approve alternatives in general. Section 156.107 of that part allows the COTP to consider and approve alternatives, procedures, methods, or equipment standards to be used by a vessel or facility operator in lieu of any requirements in this part if certain conditions are met.

In response to the second point, the comments are beyond the scope of this notice. The equipment tests and inspections in 33 CFR 156.170 are covered by a different collection of information: 1625-0095, Oil and Hazardous Materials Pollution Prevention and Safety Records, Equivalents/Alternatives and Exemptions (see 1990 final rule entitled “Marine Vapor Control Systems,” 55 FR 25396, 25427, June 21, 1990). The 1625-0095 collection has been approved through March 2006.

Information Collection Request

1. Title: Vapor Control Systems for Facilities and Tank Vessels.

OMB Control Number: 1625-0060.

Type of Request: Extension.

Affected Public: Owners and operators of facilities and tank vessels, and certifying entities.

Forms: None.

Abstract: The information is needed to ensure compliance with U.S. regulations for the design of facility and tank vessel vapor control systems (VCS). The information is also needed to determine the qualifications of a certifying entity.

Burden Estimates: The estimated burden has increased from 1,073 hours to 1,145 hours a year.

2. Title: Alternate Compliance Program.

OMB Control Number: 1625-0081.

Type of Request: Extension.

Affected Public: Recognized classification societies.

Forms: CG-3752.

Abstract: This information is used by the Coast Guard to assess vessels participating in the voluntary Alternate Compliance Program (ACP) before issuance of a Certificate of Inspection.

Burden Estimates: The estimated burden has increased from 150 hours to 164 hours a year.

3. Title: Operational Measures for Existing Tank Vessels Without Double Hulls.

OMB Control Number: 1625-0083.

Type of Request: Extension.

Affected Public: Owners, operators and masters of certain tank vessels.

Forms: None.

Abstract: The information is needed to ensure compliance with U.S. regulations regarding operational measures for certain tank vessels while operating in the U.S. waters.

Burden Estimates: The estimated burden has decreased from 18,006 hours to 6,807.

Dated: June 30, 2005.
Nathaniel S. Heiner,
Acting, Assistant Commandant for Command, Control, Communications, Computers and Information Technology.

[FR Doc. 05-13385 Filed 7-6-05; 8:45 am]

BILLING CODE 4910-15-P